DEPARTMENT OF COMMERCE

Foreign-Trade Zones Board

[Docket 41-2004]

Foreign-Trade Zone 57—Charlotte, NC, Area Application for Expansion

An application has been submitted to the Foreign-Trade Zones (FTZ) Board (the Board), by the North Carolina Department of Commerce, grantee of FTZ 57, requesting authority to expand its zone in the Charlotte, North Carolina, area, within the Charlotte Customs port of entry. The application was submitted pursuant to the provisions of the Foreign-Trade Zones Act, as amended (19 U.S.C. 81a-81u), and the regulations of the Board (15 CFR Part 400). It was formally filed on September 2, 2004.

FTZ 57 was approved on April 28, 1980 (Board Order 156, 45 FR 30466, 5/8/80) and expanded on September 23, 1982 (Board Order 199, 47 FR 43103, 9/30/82), and on July 29, 2002 (Board Order 1240, 67 FR 51535, 8/8/02).

The general-purpose zone project currently consists of 11 sites (2,094 acres) in the Counties of Mecklenburg, Burke, Caldwell, Alexander and Catawba: Site 1 (100,000 sq. ft.)—11425 Granite Street in Mecklenburg County; Site 1A (23 acres)—1411 and 1701 Continental Boulevard, Mecklenburg County; Site 2 (137,368 sq. ft.)—14620 Carowinds Boulevard, Mecklenburg County; Site 3 (26 acres)—International Airport Center, 3401 International Airport Drive, Charlotte; Site 4 (542 acres)—within the 1,600-acre Great Meadows Industrial Park located north of Interstate 40, west of Dysartville Road and south of U.S. Highway 70 in Burke County; Site 5 (78 acres, 2 parcels) located on NC Highway 18 in Lenoir: Parcel 1 (40 acres)—Lenoir Business Park and Parcel 2 (38 acres)—J&M Industrial Park; Site 6 (160 acres)—Alexander County Rail Park, located on NC Highway 90, one mile east of Taylorsville; Site 7 (619 acres)—Hickory Regional Airport/Lakepark located on Clement Boulevard in Hickory; Site 8 (1 acre)—Conwareco Logistics, Inc., warehouse facility, 1070 Main Avenue NW, Hickory; Site 9 (4 acres)—Diamante Group LLC warehouse/industrial facility, 406 20th Street SE, Hickory; Site 10 (330 acres)—within the 700-acre Conover West Business Park located south of Interstate 40 and north of U.S. Highway 70 in Hickory; and, Site 11 (311 acres, 11 parcels)—City of Newton Industrial Park located between NC Highway 16 South and U.S. Highway 321 in Newton.

The applicant is now requesting authority to expand the general purpose zone to include four additional sites (243 acres) in Charlotte (Mecklenburg County): Proposed Site 12 (85 acres)—Lakemont West Business Park located on Carowinds Boulevard; Proposed Site 13 (12 acres)—West Logistics facility located at 2301 Nevada Boulevard; Proposed Site 14 (90 acres)—West Pointe Business Park located on West Pointe Drive; and, Proposed Site 15 (56 acres)—Ridge Creek Distribution Center located at the intersection of General Drive and Ridge Creek Drive. The sites are currently being utilized by a variety of tenants for warehousing, distribution and light manufacturing activities. Additional lots are available for build-to-suit and general warehouse facilities. The sites will provide public warehousing and distribution services to area businesses. The sites are owned by Lakemont Industrial Holding Company, CIVFI-NC1 B01 Cabot Properties, Inc., ProLogis Trust, and Childress Klein Properties. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-Suite 4100W, 1401 Constitution Avenue, NW., Washington, DC 20230.

The closing period for their receipt is November 15, 2004. Rebuttal comments in response to material submitted during the foregoing period may be submitted during the subsequent 15-day period (to November 29, 2004).

A copy of the application and accompanying exhibits will be available during this time for public inspection at the address Number 1 listed above, and at the U.S. Department of Commerce Export Assistance Center, 521 East Morehead Street, Suite 435, Charlotte, NC 28202.

Dated: September 3, 2004.
Dennis Puccinelli,
Executive Secretary.

[FR Doc. 04-20701 Filed 9-13-04; 8:45 am]

BILLING CODE 3510-DS-P